DEPARTMENT OF COMMERCE

International Trade Administration

[A-565-801]

Notice of Final Determination of Sales at Less Than Fair Value: Stainless Steel Butt-Weld Pipe Fittings From the Philippines

AGENCY: Import Administration, International Trade Administration, Department of Commerce.

ACTION: Notice of final determination of sales at less than fair value.

EFFECTIVE DATE: December 27, 2000.

FOR FURTHER INFORMATION CONTACT: Fred Baker or Robert James at (202) 482-2924 and (202) 482-0649, respectively, Import Administration, International Trade Administration, U.S. Department of Commerce, 14th Street and Constitution Avenue, NW., Washington, DC 20230.

SUPPLEMENTARY INFORMATION:

Applicable Statute and Regulations

Unless otherwise indicated, all citations to the Tariff Act of 1930, as amended (the Tariff Act) are references to the provisions effective January 1, 1995, the effective date of the amendments made to the Tariff Act by the Uruguay Round Agreements Act (URAA). In addition, unless otherwise indicated, all references to the Department of Commerce's (the Department's) regulations are to 19 CFR Part 351 (1999).

Final Determination

We determine that stainless steel butt-weld pipe fittings from the Philippines are being, or are likely to be, sold in the United States at less than fair value (LTFV), as provided in section 735 of the Act. The estimated margin of sales are shown in the “Continuation of Suspension of Liquidation” section of this notice.

Case History

The Department published the preliminary determination of sales at less-than-fair-value on August 2, 2000. See Notice of Preliminary Determination of Sales at Less Than Fair Value: Stainless Steel Butt-Weld Pipe Fittings from the Philippines, 65 FR 47393 (August 2, 2000) (Preliminary Determination). Since then the following events have occurred:

The Department conducted verifications of the cost responses of Tung Fong Industrial Co., Ltd. (Tung Fong) from September 25 through September 29, 2000 and the sales responses of Tung Fong from October 2 to October 6, 2000. See the “Verification” section (below).

The Department performed a post-preliminary analysis for Tung Fong. It put this analysis on the record of this investigation on November 2, 2000.

The petitioners, Tung Fong, and Enlin Steel Corporation (Enlin) filed case briefs on November 15, 2000. The petitioners and Enlin filed rebuttal briefs on November 22, 2000. Tung Fong filed its rebuttal brief on November 24, 2000.

Critical Circumstances

According to section 733(e) of the Tariff Act, the Department must examine whether there is a reasonable basis to believe or suspect that (A)(i) there is a history of dumping and material injury by reason of dumped imports in the United States or elsewhere of the subject merchandise, or (ii) the person by whom, or for whose account, the merchandise was imported knew or should have known that the exporter was selling the subject merchandise at less than its fair value and there was likely to be material injury by reason of such sales, and (B) there have been massive imports of the subject merchandise over a relatively short period. Section 351.206(h)(1) of the Department's regulations provides that, in determining whether imports of the subject merchandise have been “massive,” the Department normally will examine: (i) The volume and value of the imports; (ii) seasonal trends; and (iii) the share of domestic consumption accounted for by the imports. In addition, section 351.206(h)(2) of the Department's regulations provides that an increase in imports during the “relatively short period” of over 15 percent may be considered “massive.” Section 351.206(i) of the Department's regulations defines “relatively short period” normally as the period beginning on the date the proceeding begins (i.e., the date the petition is filed) and ending at least three months later.

As in the preliminary determination, we continue to find critical circumstances for respondent Enlin. (Enlin did not comment on this determination in its case brief.) See the Preliminary Determination at 47396 for an explanation of the basis for the Department's determination.

With respect to Tung Fong, we impute knowledge of dumping with regard to exports by this company based on Tung Fong's final dumping margin being greater than 25 percent. See Certain Cut-to-Length Carbon Steel Plate from the People's Republic of China: Preliminary Determination of Sales at Less-Than-Fair-Value, 62 FR 31972, 31978 (June 11, 1997). We also find that there was a massive increase in imports over a relatively short period of time. See Tung Fong's export volumes provided in its August 8, 2000 submission, p. E447. Based on this information we make an affirmative final determination of critical circumstances with regard to Tung Fong.

With respect to companies in the “all others” category, it is the Department's normal practice to base its determination on the experience of investigated companies. See Notice of Final Determination of Sales at Less Than Fair Value: Certain Cut-to-Length Carbon-Quality Steel Plate From Japan, 64 FR 73215, 73218 (December 29, 1999), and Notice of Final Determination of Sales at Less Than Fair Value: Certain Steel Concrete Reinforcing Bars from Turkey, 62 FR 9737, 9741 (March 4, 1997). However, for companies in the “all others” category, we do not use adverse facts available. Accordingly, we cannot utilize the dumping margins of Tung Fong or Enlin in making this determination because they were both based, at least partially, on adverse facts available. Therefore, since we have no other basis on which to impute knowledge of dumping, we make a negative final determination with respect to “all others.” See also the Preliminary Determination at 47396.

Period of Investigation

The period of investigation is October 1, 1998 through September 30, 1999.

Analysis of Comments Received

All issues raised in the case and rebuttal briefs by parties to this administrative review are addressed in the “Issues and Decision Memorandum” (Decision Memorandum) from Joseph Spetrini, Deputy Assistant Secretary, Import Administration, to Troy Cribb, Assistant Secretary for Import Administration, dated the same date as publication of this notice, which is hereby adopted by this notice. A list of the issues which parties have raised and to which we have responded, all of which are in the Decision Memorandum, is attached to this notice as an appendix. Parties can find a complete discussion of all issues raised in this review and the corresponding recommendations in this public memorandum which is on file in room B-099 of the Department of Commerce building. In addition, a complete version of the Decision Memo can be accessed directly on the internet at http://ia.ita.doc.gov. The paper copy and electronic version of the Decision Memorandum are identical in content.

Scope of Investigation

For purposes of this investigation, the product covered is certain stainless steel butt-weld pipe fittings. Certain stainless steel butt-weld pipe fittings are under 14 inches in outside diameter (based on nominal pipe size), whether finished or unfinished. The product encompasses all grades of stainless steel and “commodity” and “specialty” fittings. Specifically excluded from the definition are threaded, grooved, and bolted fittings, and fittings made from any material other than stainless steel.

The fittings subject to these investigations are generally designated under specification ASTM A403/A403M, the standard specification for Wrought Austenitic Stainless Steel Piping Fittings, or its foreign equivalents (e.g., DIN or JIS specifications). This specification covers two general classes of fittings, WP and CR, of wrought austenitic stainless steel fittings of seamless and welded construction covered by the latest revision of ANSI B16.9, ANSI B16.11, and ANSI B16.28. Pipe fittings manufactured to specification ASTM A774, or its foreign equivalents, are also covered by these investigations.

These investigations do not apply to cast fittings. Cast austenitic stainless steel pipe fittings are covered by specifications A351/A351M, A743/743M, and A744/A744M.

The stainless steel butt-weld pipe fittings subject to these investigations are currently classifiable under subheading 7307.23.0000 of the Harmonized Tariff Schedule of the United States (HTSUS). Although the HTSUS subheadings are provided for convenience and customs purposes, the written description of the scope of this investigation is dispositive.

Currency Conversion

We made currency conversions into United States dollars in accordance with section 77A(a) of the Tariff Act based on exchange rates in effect on the dates of the United States sales, as provided by the Dow Jones Business Information Services.

Verification

As provided in section 782(i) of the Tariff Act, we verified the information submitted by the respondent for use in our final determination. We used standard verification procedures, including examination of relevant accounting and production records, as well as original source documents provided by the respondent.

Fair Value Comparisons

To determine whether sales of stainless steel butt-weld pipe fittings from the Philippines were made in the United States at less than fair value, we compared U.S. export price sales to the normal value (NV). Our calculations followed the methods described in the preliminary determination, except as noted below and in the final determination calculation memorandum, dated the same date as the date of this notice, which has been placed in the file in Room B-099 of the Department of Commerce.

1. EP

For the price to the United States, we used EP as defined in section 772 of the Tariff Act. We calculated EP using the same method as in the preliminary determination, with the following exception:

1. We made corrections to Tung Fong's data for individual sales for bank charges and imputed credit benefit based on findings at the sales verification. For specifics, see the final determination analysis memorandum from Fred Baker to the file (analysis memorandum) dated the same date as the date of publication of this notice.

2. NV

We used the same method to calculate NV as that described in the preliminary determination, with the following exceptions:

1. We included all third-country sales in the calculation regardless of whether they were above or below the cost of production;

2. We compared U.S. sales only to third-country sales with identical product characteristics;

3. For all U.S. sales without an identical match in the third-country market, we assigned an NV comparison equivalent to the highest margin for any U.S. sale that had an identical match in the third-country market;

4. We made corrections to Tung Fong's data for individual sales for sales dates and international freight based on findings at the sales verification. See the analysis memorandum for specifics.

Use of Facts Available

For a discussion of our application of facts available, see the “Facts Available” section of the Decision Memo, which is on file in B-099 and available on the internet at ia.ita.doc.gov.

All Others

Pursuant to section 735(5)(A) of the Tariff Act, the estimated “all-others” rate is equal to the estimated weighted-average dumping margin established for Tung Fong.

Continuation of Suspension of Liquidation

In accordance with section 735(c)(1)(B) of the Tariff Act, we are directing the Customs Service to continue to suspend the liquidation of all entries of stainless steel butt-weld pipe fittings from the Philippines manufactured by Enlin that are entered, or withdrawn from warehouse, for consumption on or after May 4, 2000, the date ninety days prior to the August 2, 2000 publication of the Preliminary Determination in the Federal Register. We will also instruct the Customs Service to suspend liquidation of all entries of stainless steel butt-weld pipe fittings manufactured by Tung Fong that are entered, or withdrawn from warehouse, for consumption on or after May 4, 2000. We will instruct the Customs Service to suspend liquidation for all other exporters of stainless steel butt-weld pipe fittings that are entered, or withdrawn from warehouse, beginning August 2, 2000. The Customs Service shall continue to require a cash deposit or the posting of a bond equal to the weighted average dumping margin, as indicated in the chart below. These cash deposit instructions will remain in effect until further notice.

Manufacturer/exporter | Margin (percent)
Enlin Steel Corporation | 33.81
Tung Fong Industrial Co., Ltd. | 33.81
All Others | 33.81

ITC Notification

In accordance with section 735(d) of the Tariff Act, we have notified the International Trade Commission (ITC) of the determination. As the final determination is affirmative, the ITC will, within 45 days, determine whether these imports are materially injuring, or threaten material injury to, the U.S. industry. If the ITC determines that material injury or threat of material injury does not exist, the proceeding will be terminated and all securities posted will be refunded or canceled. If the ITC determines that such injury does exist, the Department will issue an antidumping duty order directing the Customs Service to assess antidumping duties on all imports of the subject merchandise entered, or withdrawn from warehouse, for consumption on or after the effective date of the suspension of liquidation.

This determination is issued and published pursuant to section 735(d) and 777(i)(1) of the Tariff Act.

Dated: Decemberr 15, 2000.
Troy H. Cribb,
Assistant Secretary for Import Administration.

Appendix

Comments and Responses

A. Initiation of Sale-Below-Cost Investigation

B. Use of Adverse Facts Available

C. Appropriate Treatment of Miscellaneous Cost Items

D. Model Match Method

E. Critical Circumstances

F. Rescinding the Investigation

[FR Doc. 00-32978 Filed 12-26-00; 8:45 am]

BILLING CODE 3510-DS-U